DEPARTMENT OF VETERANS AFFAIRS

Veterans' Rural Health Advisory Committee; Notice of Meeting

The Department of Veterans Affairs (VA) gives notice under Public Law 92-463 (Federal Advisory Committee Act) that the Veterans' Rural Health Advisory Committee will hold a meeting on March 2-3, 2010, in the Robert Taylor Room at the Carnegie Hotel, 1216 West State of Franklin Road, Johnson City, Tennessee. The sessions will begin at 8 a.m. each day and end at 4 p.m. on March 2 and at 2:30 p.m. on March 3.

The purpose of the Committee is to advise the Secretary of Veterans Affairs on health care issues affecting enrolled Veterans residing in rural areas. The Committee examines programs and policies that impact the provision of VA health care to enrolled Veterans residing in rural areas, and discusses ways to improve and enhance VA services for these Veterans.

On March 2, the Committee will meet in open session from 8 a.m. until 2 p.m. The Committee will hear from its chairman, the acting director of the VA Office of Rural Health, and the directors of the three Veterans Rural Health Resource Centers. The Committee will hold a panel discussion on the opportunities and challenges of VA collaboration with rural community partners, and discuss its 2010 work plan and priorities. The Committee will convene a closed session from 2 p.m. to 4 p.m. in order to protect patient privacy as the Committee tours patient treatment areas at the Mountain Home VA Medical Center. Closing this portion of the meeting is in accordance with 5 U.S.C. 552b(c)(6).

On March 3, the Committee will receive a summary of the tour of the Mountain Home VA Medical Center, presentations on service delivery models for primary care and their application in the rural context from VA and Indian Health Service and discuss Committee priorities and action plans for fiscal year 2010.

Time will be allocated for receiving public comments at 1:45 p.m. Individuals who speak are invited to submit 1-2 page summaries of their comments at the time of the meeting for inclusion in the official meeting record. For additional information, please contact Christina White, Designated Federal Officer, at rural.health.inquiry@va.gov or (202) 461-7100.

By Direction of the Secretary.
Vivian Drake,
Acting Committee Management Officer.

[FR Doc. 2010-3752 Filed 2-24-10; 8:45 am]

BILLING CODE 8320-01-P